DEPARTMENT OF DEFENSE

Office of the Secretary

[Docket ID DOD-2017-OS-0015]

Privacy Act of 1974; System of Records

AGENCY: Office of the Secretary of Defense, DoD.

ACTION: Rescindment of a System of Records notice.

SUMMARY: The Office of the Secretary of Defense is rescinding a system of records, Private Relief Legislation File, DGC 02. These files were used by the attorneys in the Office of the General Counsel, Office of the Secretary of Defense and personnel in the Department of Defense to produce working papers in development of a department position.

DATES: Comments will be accepted on or before May 4, 2017. This proposed action will be effective the date following the end of the comment period unless comments are received which result in a contrary determination. The specific date for when this system ceased to be a Privacy Act System of Records is unknown; however, no actions involving private relief legislation have been processed by the DoD Office of General Counsel since 2010.

ADDRESSES: You may submit comments, identified by docket number and title, by any of the following methods:

* Federal Rulemaking Portal: http://www.regulations.gov.

Follow the instructions for submitting comments.

* Mail: Department of Defense, Office of the Deputy Chief Management Officer, Directorate for Oversight and Compliance, 4800 Mark Center Drive, Mailbox #24, Suite 08D09B, Alexandria, VA 22350-1700.

Instructions: All submissions received must include the agency name and docket number for this Federal Register document. The general policy for comments and other submissions from members of the public is to make these submissions available for public viewing on the Internet at http://www.regulations.gov as they are received without change, including any personal identifiers or contact information.

FOR FURTHER INFORMATION CONTACT: To submit general questions about the rescinded system, please contact Mrs. Luz D. Ortiz, Chief, Records, Privacy and Declassification Division (RPDD), 1155 Defense Pentagon, Washington, DC 20301-1155, or by phone at (571) 372-0478.

SUPPLEMENTARY INFORMATION: Based on a recent review, it was determined that the Department of Defense Office of General Counsel no longer maintains a Privacy Act system of records for private relief legislation. Legislative bills are tracked by bill number, rather than personal identifier.

The Office of the Secretary systems of records notices subject to the Privacy Act of 1974 (5 U.S.C. 552a), as amended, have been published in the Federal Register and are available from the address in FOR FURTHER INFORMATION CONTACT or at the Defense Privacy, Civil Liberties and Transparency Division Web site at http://dpcld.defense.gov/.

The proposed changes to the record system being amended are set forth in this notice. The proposed amendment is not within the purview of subsection (r) of the Privacy Act of 1974 (5 U.S.C. 552a), as amended, which requires the submission of a new or altered system report.

DGC 02

SYSTEM NAME AND NUMBER:

Private Relief Legislation File, DGC 02.

HISTORY:

February 22, 1993, 58 FR 10227.

Dated: March 30, 2017.
Aaron Siegel,
Alternate OSD Federal Register Liaison Officer, Department of Defense.

[FR Doc. 2017-06659 Filed 4-3-17; 8:45 am]

BILLING CODE 5001-06-P